FEDERAL COMMUNICATIONS COMMISSION

47 CFR Part 1

[IB Docket No. 11-133; FCC 13-50]

Review of Foreign Ownership Policies for Common Carrier and Aeronautical Radio Licensees

AGENCY: Federal Communications Commission.

ACTION: Final rule; correction.

SUMMARY: The Federal Communications Commission (Commission) is correcting a final rule that appeared in the Federal Register of July 10, 2013 (78 FR 41314). The document issued final rules that apply to foreign ownership of common carrier, aeronautical en route and aeronautical fixed radio station licensees.

DATES: Effective on August 9, 2013.

FOR FURTHER INFORMATION CONTACT: Susan O'Connell or James Ball, Policy Division, International Bureau, FCC, (202) 418-1460 or via the Internet at Susan.OConnell@fcc.gov and James.Ball@fcc.gov.

SUPPLEMENTARY INFORMATION: In FR Doc. 2013-15314 appearing on page 41314 in the Federal Register of Wednesday, July 10, 2013, the following corrections are made:

Subpart F—Wireless Radio Services Applications and Proceedings [Corrected]

1. On page 41321, in the third column, the heading of the table of contents for §§ 1.990 through 1.994, “Foreign Ownership of U.S.-Organized Entities That Control Common Carrier, Aeronautical en Route, And Aeronautical Fixed Radio Station Licensees” is corrected to read “Foreign Ownership of Common Carrier, Aeronautical en Route, And Aeronautical Fixed Radio Station Licensees”.

2. On page 41322, in the first column, the undesignated center heading for §§ 1.990 through 1.994, “Foreign Ownership of U.S.-Organized Entities That Control Common Carrier, Aeronautical en Route, And Aeronautical Fixed Radio Station Licensees” is corrected to read “Foreign Ownership of Common Carrier, Aeronautical en Route, And Aeronautical Fixed Radio Station Licensees”.

§ 1.994 [Corrected]

3. On page 41330, in the third column, in § 1.994(d), under the heading Example (for rulings issued under § 1.990(a)(2)), correct the second sentence by removing the open parenthesis at the beginning of the sentence, to read as follows: A U.S. citizen holds the remaining 52 percent equity and voting interests in U.S. Corporation A, and the remaining 51 percent equity and voting interests in Licensee are held by its U.S.-organized parent, which has no foreign ownership.

Federal Communications Commission.
Marlene H. Dortch,
Secretary.

[FR Doc. 2013-17711 Filed 7-22-13; 8:45 am]

BILLING CODE 6712-01-P